DEPARTMENT OF COMMERCE

National Oceanic and Atmospheric Administration

50 CFR Parts 223 and 226

[Docket No.230309-0070; RTID 0648-XC913]

Endangered and Threatened Wildlife and Plants; Threatened Listing Determination for the Sunflower Sea Star Under the Endangered Species Act; Public Hearings

AGENCY: National Marine Fisheries Service (NMFS), National Oceanic and Atmospheric Administration (NOAA), Commerce.

ACTION: Notification of public hearings.

SUMMARY: We, NMFS, will hold two public hearings related to our March 16, 2023, proposed rule to list the sunflower sea star (Pycnopodia helianthoides) as threatened under the Endangered Species Act (ESA).

DATES: Written comments must be received by May 15, 2023. Both hearings are open to all interested parties and we encourage participation by members of the public wishing to provide oral comments. In-person public hearings will be held, convening at 4 p.m. and concluding no later than 7 p.m. Alaska Daylight Time (AKDT), on the following dates: May 2, 2023 (Kodiak, Alaska) and May 10, 2023 (Petersburg, Alaska). Teleconference will also be available (see ADDRESSES). NMFS may close the hearings 15 minutes after the conclusion of public testimony and after responding to any clarifying questions from hearing participants about the proposed rule. Contact Sadie Wright (see FOR FURTHER INFORMATION CONTACT) if you intend to join the public hearing after 5:30 p.m. so we can leave the public testimony portion open to accommodate you.

ADDRESSES: The May 2 public hearing will be held in the Harbor Room of the Best Western Kodiak Inn at 236 Rezanof Drive, Kodiak, Alaska 99615. The May 10 public hearing will be held at Petersburg Borough Assembly Chambers at 12 South Nordic Drive, Petersburg, Alaska 99833. Individuals unable to attend in person may participate in either hearing via conference call. Toll free conference call information for both hearings is the same: Telephone: (888) 790-2053, Conference Code: 2314303.

You may submit written data, information, or comments regarding the proposed rule to list the sunflower sea star as threatened under the ESA, identified by Docket ID NOAA-NMFS-2021-0130-0038, by either of the following methods:

• Electronic Submission: Submit all electronic comments via the Federal eRulemaking Portal. Go to www.regulations.gov, and enter NOAA-NMFS-2021-0130 in the Search box. Click the “Submit a Formal Comment” or “Comment” icon, complete the required fields, and enter or attach your comments.

• Mail: Submit written comments to Dayv Lowry, NMFS West Coast Region Lacey Field Office, 1009 College St. SE, Lacey, WA 98503, USA.

Instructions: NMFS may not consider comments sent by any other method, to any other address or individual, or received after the end of the comment period. All comments received are a part of the public record and will generally be posted for public viewing on www.regulations.gov without change. All personal identifying information (e.g., name, address), confidential business information, or otherwise sensitive information submitted voluntarily by the sender will be publicly accessible. NMFS will accept anonymous comments (enter “N/A” in the required fields if you wish to remain anonymous).

The proposed rule and supporting documents are available in the docket for the proposed rule at www.regulations.gov, and on the NMFS website at https://www.fisheries.noaa.gov/species/sunflower-sea-star#conservation-management.

FOR FURTHER INFORMATION CONTACT: Sadie Wright, NMFS Alaska Region, (907) 586-7630, sadie.wright@noaa.gov; or Dayv Lowry, NMFS West Coast Region, (253) 317-1764, david.lowry@noaa.gov.

SUPPLEMENTARY INFORMATION:

Background

On August 18, 2021, we received a petition from the Center for Biological Diversity to list the sunflower sea star (Pycnopodia helianthoides) as a threatened or endangered species under the ESA. On December 27, 2021, we published a positive 90-day finding (86 FR 73230, December 27, 2021) announcing that the petition presented substantial scientific or commercial information indicating that the petitioned action may be warranted. We also announced the initiation of a status review of the species, as required by section 4(b)(3)(A) of the ESA, and requested information to inform the agency's decision on whether this species warrants listing as threatened or endangered. We completed a comprehensive status review for the sunflower sea star. Based on the best scientific and commercial information available (including the draft status review report), and after taking into account efforts being made to protect the species, we determined that the sunflower sea star is likely to become an endangered species within the foreseeable future throughout its range. Therefore, on March 16, 2023, we proposed to list the sunflower sea star as a threatened species under the ESA. The proposed rule opened a public comment period through May 15, 2023.

Public Hearings

We will hold two in-person public hearings, with associated conference calls, to accept comments on the proposed rule to list the sunflower sea star as threatened under the ESA on the dates and at the times listed above (see ADDRESSES and DATES). Please see the Public Comments Solicited section of the March 16, 2023, proposed rule regarding the types of information and data we particularly seek (88 FR 16212).

During each public hearing, NMFS will provide a brief opening presentation on the proposed ESA-listing rule before accepting public testimony for the record. The hearings will be recorded for the purpose of preparing transcripts of oral comments received. Attendees will be asked to identify themselves before giving testimony in-person or before joining the hearing via teleconference. For the teleconference, once connected to the call, telephone lines will be automatically muted. During the public testimony portion of the hearing, the teleconference moderator will ask participants if they have comments. The teleconference moderator will inform participants with comments when it is their turn to comment. When it is your turn to offer your comment, the moderator will unmute your individual line. Commenters will be asked to state their full name and the identity of any organization on whose behalf they may be speaking. In the event that attendance at the public hearings is large, the time allotted for each commenter may be limited.

Anyone wishing to make an oral statement at the public hearing is encouraged to also submit a written copy of their statement to us during the comment period by either of the methods identified above (see ADDRESSES and DATES). There are no limits on the length of written comments submitted to us. Written statements and supporting data and information submitted during the comment period will be considered with the same weight as oral statements provided during the public hearings.

These public hearings are physically accessible to people with disabilities. People needing reasonable accommodations to participate in these hearings should submit a request as soon as possible, and no later than 10 business days before the accommodation is needed, by contacting Sadie Wright (see FOR FURTHER INFORMATION CONTACT).

Authority: 16 U.S.C. 1531 et seq.

Dated: April 5, 2023.
Angela Somma,
Chief, Endangered Species Conservation Division, Office of Protected Resources, National Marine Fisheries Service.

[FR Doc. 2023-07437 Filed 4-10-23; 8:45 am]

BILLING CODE 3510-22-P